INTERNATIONAL TRADE COMMISSION

[Investigation No. 337-TA-1045]

Certain Document Cameras and Software for Use Therewith; Commission's Determination Not To Review an Initial Determination Terminating the Investigation Based on Withdrawal of the Complaint

AGENCY: U.S. International Trade Commission.

ACTION: Notice.

SUMMARY: Notice is hereby given that the U.S. International Trade Commission has determined not to review the presiding administrative law judge's (“ALJ”) initial determination (“ID”) (Order No. 20) terminating the investigation based on withdrawal of the complaint.

FOR FURTHER INFORMATION CONTACT: Amanda Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on March 24, 2017, based on a complaint filed on behalf of Pathway Innovations and Technologies, Inc. (“Complainant”) of San Diego, California. 82 FR 15069-70 (March 24, 2017). The complaint alleges violations of section 337 based upon the importation into the United States, the sale for importation, and the sale within the United States after importation of certain document cameras and software for use therewith by reason of infringement of certain claims of U.S. Patent No. 8,508,751. The complaint named IPEVO, Inc. of Sunnyvale, California; AVer Information Inc. of Fremont, California; and Lumens Integrations Inc. (“Lumens”) of Fremont, California as respondents. Lumens was previously terminated from the investigation.

On November 21, 2017, Complainant filed an unopposed motion to terminate the investigation based on withdrawal of the complaint.

On November 24, 2017, the ALJ issued an ID granting the unopposed motion. Order No. 20. The ALJ found that Complainant complied with Commission Rule 210.21. Specifically, the Complainant represented that there are no agreements, written or oral, express or implied concerning the subject matter of the investigation. The ALJ also found that termination of the investigation is not contrary to the public interest and there are no extraordinary circumstances that prevent termination of the investigation. No petitions for review were filed.

The Commission has determined not to review the subject ID.

The authority for the Commission's determination is contained in section 337 of the Tariff Act of 1930, as amended (19 U.S.C. 1337), and in Part 210 of the Commission's Rules of Practice and Procedure (19 CFR part 210).

By order of the Commission.
Issued: December 14, 2017.
Lisa R. Barton,
Secretary to the Commission.

[FR Doc. 2017-27262 Filed 12-18-17; 8:45 am]

BILLING CODE 7020-02-P